DEPARTMENT OF COMMERCE

National Oceanic and Atmospheric Administration

RIN 0648-XK54

Marine Mammals; File No. 13602

AGENCY: National Marine Fisheries Service (NMFS), National Oceanic and Atmospheric Administration (NOAA), Commerce.

ACTION: Notice; issuance of permit amendment.

SUMMARY: Notice is hereby given that Dr. Terrie Williams, Long Marine Laboratory, Institute of Marine Sciences, University of California at Santa Cruz, 100 Shaffer Road, Santa Cruz, CA has been issued a minor amendment to Permit No. 13602-01.

ADDRESSES: The amendment and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Jennifer Skidmore or Amy Sloan; phone: (301) 427-8401.

SUPPLEMENTARY INFORMATION: The requested amendment has been granted under the authority of the Marine Mammal Protection Act of 1972, as amended (16 U.S.C. 1361 et seq.) and the regulations governing the taking and importing of marine mammals (50 CFR part 216).

Permit No. 13602-01 (76 FR 7823) authorizes the permit holder to conduct energetic and physiological research on captive odontocetes and pinnipeds (including threatened and endangered species) to determine key physiological factors required for survival. Research may occur at Long Marine Laboratory and other institutions in the U.S. and includes permanently captive marine mammals and those undergoing rehabilitation. This minor amendment (No. 13602-02) extends the duration of the permit one year, through September 7, 2015, but does not change any other terms or conditions of the permit.

Dated: February 4, 2015.
Perry F. Gayaldo,
Deputy Director, Office of Protected Resources, National Marine Fisheries Service.

[FR Doc. 2015-02610 Filed 2-9-15; 8:45 am]

BILLING CODE 3510-22-P